DEPARTMENT OF ENERGY

Federal Energy Regulatory Commission

[Docket No. EG04-70-000, et al.]

Exelon Boston Services, Inc., et al.; Electric Rate and Corporate Filings

May 26, 2004.

The following filings have been made with the Commission. The filings are listed in ascending order within each docket classification.

1. Exelon Boston Services, LLC

[Docket No. EG04-70-000]

On May 21, 2004, Exelon Boston Services, LLC, (Exelon) 300 Exelon Way, Kennett Square, PA 19348, filed with the Federal Energy Regulatory Commission an application for determination of exempt wholesale generator status pursuant to part 365 of the Commission's regulations. Exelon states that it will engage directly or indirectly and exclusively in the business of owning and/or operating eligible facilities in the United States and selling electric energy at wholesale. Exelon further states that it proposes to operate an approximately 573 MW gas-fired generation facility located in Everett, MA that is owned by Mystic 1, LLC. Exelon seeks a determination of its exempt wholesale generator status.

Comment Date: June 11, 2004.

2. Exelon New England Power Services, Inc.

[Docket No. EG04-71-000]

On May 21, 2004, Exelon New England Power Services, Inc., (Exelon) 300 Exelon Way, Kennett Square, PA 19348, filed with the Federal Energy Regulatory Commission an application for determination of exempt wholesale generator status pursuant to part 365 of the Commission's regulations. Exelon states that it will engage directly or indirectly and exclusively in the business of owning and/or operating eligible facilities in the United States and selling electric energy at wholesale. Exelon further states that it proposes to operate a 807 MW gas-fired combined-cycle generation facility located in Weymouth, MA electric that is owned by Exelon Fore River Development, LLC and a 1,614 MW gas-fired combined-cycle generation facility located in Everett, MA that is owned by Exelon Mystic Development LLC. Exelon seeks a determination of its exempt wholesale generator status.

Comment Date: June 11, 2004.

3. California Independent System Operator Corporation

[Docket No. ER03-1102-004]

Take notice that on May 21, 2004, the California Independent System Operator Corporation (ISO) submitted an errata filing concerning the compliance filing submitted on May 20, 2004, in Docket No. ER03-1102-003.

The ISO states that it has served copies of this letter, and all attachments, upon all parties on the official service list for the captioned docket. In addition, the ISO is posting this transmittal letter and all attachments on the ISO home page.

Comment Date: June 11, 2004.

4. California Independent System Operator Corporation

[Docket No. ER04-632-001]

Take notice that on May 21, 2004, the California Independent System Operator Corporation (ISO) tendered a filing in compliance with the Commission's Order Accepting Tariff Revisions Subject to Modification, which issued May 6, 2004, 107 FERC ¶ 61,114. The ISO states that the Commission accepted its proposed revisions to the ISO Tariff regarding the definition of “PTO Service Territory” and related matters subject to certain modifications that the ISO includes in this filing.

Comment Date: June 11, 2004.

5. Premcor Generating LLC

[Docket No. ER04-704-001]

Take notice that on May 21, 2004, Premcor Generating LLC filed a Notice of Succession adopting Williams Generating Memphis, LLC's FERC Rate Schedule No. 1 and a revised FERC Rate Schedule to reflect the name change from Williams Generating Memphis, LLC to Premcor Generating LLC.

Comment Date: June 11, 2004.

6. Jersey Central Power and Light Company

[Docket No. ER04-727-001]

Take notice that on May 21, 2004, Jersey Central Power and Light Company, a FirstEnergy Company, amended its April 9, 2004, filing in this proceeding to include certain cost support data as requested by Commission staff.

Jersey Central Power and Light Company states that copies of this filing have been served on regulators in New Jersey, OPP and PJM.

Comment Date: July 11, 2004.

7. PJM Interconnection, L.L.C.

[Docket No. ER04-807-001]

Take notice that on May 20, 2004, PJM Interconnection, L.L.C. (PJM) tendered for filing certain sheets to the PJM Open Access Transmission Tariff (PJM Tariff) that were missing from, or incorrect in, PJM's April 30, 2004, filing in Docket No. ER04-807-000. PJM states that, consistent with the effective date requested in the April 30, 2004, filing, it requests that the submitted sheets become effective on May 1, 2004.

PJM states that copies of the filing were served on all PJM members, the utility regulatory commissions in the PJM region, and all persons on the service lists for these proceedings.

Comment Date: June 10, 2004.

8. Edgar Electric Cooperative Association d/b/a EnerStar Power Corp.

[Docket No. ER04-857-000]

Take notice that on May 21, 2004, Edgar Electric Cooperative Association, a rural electric cooperative doing business as EnerStar Power Corp. (EnerStar) filed with the Commission, pursuant to section 205 of the Federal Power Act, 16 U.S.C. 824d, and part 35 of the Commission's Regulations, a Notice of Cancellation of its Rate Schedule FERC No. 1 which became effective on May 14, 1998. EnerStar has requested that this cancellation be made effective as of May 21, 2004.

Comment Date: June 11, 2004.

9. California Independent System Operator Corporation

[Docket No. ER04-858-000]

Take notice that on May 21, 2004, the California Independent System Operator Corporation (ISO) submitted an informational filing in accordance with Article IX, section B of the Stipulation and Agreement approved by the Commission on May 28, 1999, California Independent System Operator Corp., 87 FERC ¶ 61,250 (1999) (Stipulation and Agreement). ISO states that this provision requires the ISO to provide on a confidential basis to the Commission (1) Information regarding any notice from an RMR Unit requesting a change of Condition; (2) the date the chosen Condition will begin; and (3) if the change is from Condition 2, the applicable level of Fixed Option Payment. ISO further states as required by the provision, it has provided notice of the changes of condition described in the informational filing (subject to the applicable Non-Disclosure and Confidentiality Agreement in the RMR Contract) to the designated RMR contact persons at the California Public Utilities Commission, the California Electricity Oversight Board, the applicable Responsible Utilities, and the relevant RMR Owners.

Comment Date: June 11, 2004.

10. Virginia Electric and Power Company

[Docket No. ER04-859-000]

Take notice that on May 21, 2004, Virginia Electric and Power Company doing business as Dominion Virginia Power (Dominion Virginia Power), tendered for filing a Generator Imbalance Service Schedule as Schedule 4G under its Open Access Transmission Tariff to match the differences in any given hour of the amount of energy scheduled by a generating facility and actually generated and delivered in that hour. Dominion Virginia Power respectfully requests that the Commission permit the Generator Imbalance Service Schedule to become effective one day after the filing.

Dominion Virginia Power states that copies of this filing were served upon the Virginia State Corporation Commission and Dominion Virginia Power's jurisdictional customers.

Comment Date: June 11, 2004.

11. AES Power, Inc.

[Docket No. ER04-860-000]

Take notice that, on May 21, 2004, AES Power, Inc. (AES Power) filed a Notice of Cancellation of its Rate Schedule FERC No. 1. AES Power requests that this Notice of Cancellation be effective as of May 22, 2004.

Comment Date: June 7, 2004.

12. Maine Public Service Company

[Docket No. ER04-861-000]

Take notice that on May 21, 2004, Maine Public Service Company submitted a Notice of Cancellation for its market-based rate schedule. Maine Public Service Company states that it no longer makes market-based rate sales.

Comment Date: June 11, 2004.

13. MDU Resources Group, Inc.

[Docket No. ES04-34-000]

Take notice that on May 20, 2004, MDU Resources Group, Inc. (MDU) submitted an application pursuant to section 204 of the Federal Power Act requesting that the Commission authorize the issuance of an additional 6,825,581 shares of common stock to be issued from time to time in connection with the Executive Long-Term Incentive Plan.

MDU also requests a waiver from the Commission's competitive bidding and negotiated placement requirements at 18 CFR 34.2.

Comment Date: June 17, 2004.

14. Wabash Valley Power Association, Inc.

[Docket No. ES04-35-000]

Take notice that on May 20, 2004, Wabash Valley Power Association, Inc. (Wabash Valley) submitted an application pursuant to section 204 of the Federal Power Act requesting that the Commission: (1) Authorize the issuance of long-term debt in an aggregate amount not to exceed $15 million; (2) authorize the issuance of short-term debt in an aggregate amount not to exceed $25 million under a revolving line of credit; and (3) grant waiver of the restrictions on public utility issuances of secured and unsecured debt set forth in Westar Energy, Inc., 106 FERC ¶ 61,186 (2003), with respect to securities issued pursuant to these requested authorizations.

Wabash Valley also requests a waiver from the Commission's competitive bidding and negotiated placement requirements at 18 CFR 34.2.

Comment Date: June 17, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1254 Filed 6-3-04; 8:45 am]

BILLING CODE 6717-01-P